DEPARTMENT OF ENERGY

Federal Energy Regulatory Commission

[Docket Nos. RP00-472-002, and RP01-31-002]

USG Pipeline Company; Notice of Compliance Filing

October 8, 2002.

Take notice that on October 3, 2002, USG Pipeline Company (USGPC) tendered for filing as part of its FERC Gas Tariff, Original Volume No. 1, with an effective date of October 1, 2002:

Substitute First Revised Sheet No. 51

Substitute Original Sheet No. 51A

USGPC states that the filing is being made pursuant to the Commission's September 25, 2002, letter order in compliance with the September 25 letter order and Order Nos. 637, 587-G, and 587-L.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26096 Filed 10-11-02; 8:45 am]

BILLING CODE 6717-01-P